DEPARTMENT OF TRANSPORATION

Pipeline and Hazardous Materials Safety Administration, Office of Hazardous Materials Safety Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 25, 2008.

ADDRESSES COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for special permit is published in accordance with part 107 of the Federal hazardous materials transportation law (49 U.S.C. 5117(b); 49 CFR 1.53(b)).

Issued in Washington, DC, on January 14, 2008.
Delmer F. Billings,
Director, Office of Hazardous Materials, Special Permits and Approvals.

New Special Permits
Application No. | Docket No. | Applicant | Regulation(s) affected | Nature of special permits thereof
14624-N |  | INOCOM Inc., Dalsung-gun, Daegu | 49 CFR 173.302a, 173.304a and 180.205 | To authorize the manufacture, marking, sale and use of non-DOT specification fiber reinforced plastic (FRP) full composite (FC) cylinders for the transportation in commerce of certain Division 2.1 and 2.2 compressed gases. (modes 1, 2, 3, 4, 5).
14625-N |  | Sun & Skin Care Research, Inc., Cocoa, FL | 49 CFR 173.306(a)(3)(v) | To authorize the transportation in commerce of an aerosol in certain non-refillable containers which have been tested by an alternative method in lieu of the hot water bath test. (modes 1, 2, 3, 4, 5).
14626-N |  | Aerojet, Sacramento, CA | 49 CFR 173.56, 173.60 and 173.62 | To authorize the one-time, one-way transportation in commerce of a Class 1 explosive contained in a solid rocket motor in alternative packaging. (mode 1).
14627-N |  | American Spraytech, North Branch, NJ | 49 CFR 173.306(a)(3)(v) | To authorize the transportation in commerce of certain aerosols containing a Division 2.2 compressed gas in certain non-refillable aerosol containers which are not subject to the hot water bath test. (mode 1).
14628-N |  | National Aeronautics and Space Administration | 49 CFR 173.301(f) and 173.302a(a) | To authorize the transportation in commerce of certain non-DOT specification pressure vessels containing compressed hydrogen, which are component parts of a nickel-hydrogen battery. (mode 1).
14629-N |  | Eastman Chemical Company, Kingsport, TN | 49 CFR 173.31, 174.50 and 179.200-16 | To authorize the filling and transportation of certain railcars having broken or unused magnetic gauging devices (MGDs) without first obtaining a specific FRA Movement Approval for each railcar or conducting the repair on site. (mode 2).
14630-N |  | Dow Agrosciences LLC, Indianapolis, IN | 49 CFR 172.302(a); 172.504(a) | To authorize the transportation in commerce of Division 6.1 liquid fumigants in non-DOT specification cargo tanks equipped with an alternative pressure relief system. (mode 1).
14631-N |  | iSi Automotive GmbH, Austria | 49 CFR 173.301, 173.302a and 173.305 | To authorize the manufacture, marking, sale and use of non-DOT specification cylinders for certain hazardous materials for use as components of safety systems. (mode 1, 2, 3, 4, 5).

[FR Doc. 08-248 Filed 1-23-08; 8:45 am]

BILLING CODE 4909-60-M